DEPARTMENT OF THE INTERIOR

Bureau of Land Management

[LLAZC03000.L51050000.EA0000 LVRCA13SA040.241A, AZ-SRP-030-10-04 and AZ-SRP-030-10-05]

Notice of Temporary Closures of Public Lands in La Paz County, AZ

AGENCY: Bureau of Land Management, Interior.

ACTION: Notice.

SUMMARY: The Bureau of Land Management (BLM) Lake Havasu Field Office will close certain public lands during the Best in the Desert (BITD) Racing Association “BITD PARKER 250” and “BITD 425” events.

DATES: These closures will be in effect from 2 p.m., January 11, 2013, through 6 p.m., January 12, 2013, and 2 p.m., February 1, 2013, through 11:59 p.m., February 2, 2013, Mountain Standard Time.

FOR FURTHER INFORMATION CONTACT: Michael Dodson, Field Staff Ranger, BLM Lake Havasu Field Office, 2610 Sweetwater Avenue, Lake Havasu City, AZ 86406, 928-505-1200. Persons who use a telecommunications device for the deaf (TDD) may call the Federal Information Relay Service (FIRS) at 1-800-877-8339 to contact the above individual during normal business hours. FIRS is available 24 hours a day, 7 days a week, to leave a message or question for the above individual. You will receive a reply during normal business hours.

SUPPLEMENTARY INFORMATION: The closures affect public lands administered by the Lake Havasu Field Office in La Paz County, Arizona. This action is being taken to help ensure public safety, prevent unnecessary environmental degradation, and to protect natural and cultural resources adjacent to the event site during the Best in the Desert (BITD) Racing Association “BITD Parker 250” and “BITD 425” official permitted off-highway vehicle (OHV) events.

The closure orders are issued under the authority of 43 CFR 8340 subpart 8341; 43 CFR 8360, subpart 8364.1; and 43 CFR 2932 which allow the BLM to establish closures for the protection of persons, property, and public lands and resources. Violation of any of the terms, conditions, or restrictions contained within this closure order may subject the violator to citation or arrest with a penalty or fine or imprisonment or both as specified by law.

Penalties: Violation of any regulations in this part by a member of the public is punishable by a fine not to exceed $1,000 and/or imprisonment not to exceed 12 months.

Description of Race Course Closed Area: Beginning at the eastern boundary of the Colorado River Indian Tribe (CRIT) Reservation, the closed area runs east along Shea Road, then east into Osborne Wash on the Parker-Swansea Road to the Central Arizona Project (CAP) Canal, then north on the west side of the CAP Canal, crossing the canal on the county-maintained road, running northeast into Mineral Wash Canyon, then southeast on the county-maintained road, through the four-corners intersection to the Midway (Pit) intersection, then east on Transmission Pass Road, through State Trust Land located in Butler Valley, turning north into Cunningham Wash to North Tank; continuing south to Transmission Pass Road and east (reentering public land) within 2 miles of Alamo Dam Road. The course turns south and west onto the wooden power line road, onto the State Trust Land in Butler Valley, turning southwest into Cunningham Wash to the Graham Well, intersecting Butler Valley Road, then north and west on the county-maintained road to the “Bouse Y” intersection, 2 miles north of Bouse, Arizona. The course proceeds north, paralleling the Bouse-Swansea Road to the Midway (Pit) intersection, then west along the north boundary (power line) road of the East Cactus Plain Wilderness Area to Parker-Swansea Road. The course turns west into Osborne Wash crossing the CAP Canal, along the north boundary of the Cactus Plain Wilderness Study Area; it continues west staying in Osborne Wash and crossing Shea Road along the southern boundary of Gibraltar Wilderness, rejoining Osborne Wash at the CRIT Reservation boundary.

Closure Restrictions: The following acts are prohibited during the temporary land closures:

1. Being present on, or driving on, the designated race course or the adjacent lands described above. Spectators must stay within the designated spectator areas. The spectator areas have protective fencing and barriers. This does not apply to race participants, race officials, nor emergency vehicles authorized or operated by local, State, or Federal government agencies. Emergency medical response shall only be conducted by personnel and vehicles operating under the guidance of the La Paz County Emergency Medical Services and Fire, the Arizona Department of Public Safety, or the Bureau of Land Management.

2. Vehicle parking or stopping in areas affected by the closures, except where such is specifically allowed (designated spectator areas).

3. Camping in the closed area described above, except in the designated spectator areas.

4. Discharge of firearms.

5. Possession or use of any fireworks.

6. Cutting or collecting firewood of any kind, including dead and down wood or other vegetative material.

7. Operating any vehicle (except registered race vehicles), including off-highway vehicles, not registered and equipped for street and highway operation.

8. Operating any vehicle in the area of the closure or on roads within the event area at a speed of more than 35 mph. This does not apply to registered race vehicles during the race, while on the designated race course.

9. Failure to obey any official sign posted by the BLM, La Paz County, or the race promoter.

10. Parking any vehicle in a manner that obstructs or impedes normal traffic movement.

11. Failure to obey any person authorized to direct traffic or control access to event area including law enforcement officers, BLM officials, and designated race officials.

12. Failure to observe Spectator Area quiet hours of 10 p.m. to 6 a.m.

13. Failure to keep campsite or race viewing site free of trash and litter.

14. Allowing any pet or other animal to be unrestrained. All pets must be restrained by a leash of not more than 6 feet in length.

Exceptions to Closure: The restrictions do not apply to emergency or law enforcement vehicles owned by the United States, the State of Arizona, or La Paz County, and designated race officials, participants, pit crews, or persons operating on their behalf. Persons who violate these closure orders are subject to arrest and may be taken before a United States Magistrate and upon conviction, may be fined not more than $1,000 and/or imprisoned for not more than 12 months. Such violations may also be subject to the enhanced fines provided for by 18 U.S.C. 3571.

Authority: 43 CFR 8364.1.

Kimber Liebhauser,
Field Manager.

[FR Doc. 2013-00542 Filed 1-14-13; 8:45 am]

BILLING CODE 4310-32-P